DEPARTMENT OF HOMELAND SECURITY

Coast Guard

[Docket No. USCG-2021-0830]

National Boating Safety Advisory Committee; Vacancies

AGENCY: Coast Guard, Department of Homeland Security.

ACTION: Request for applications.

SUMMARY: The U.S. Coast Guard seeks applications from persons interested in the membership on the National Boating Safety Advisory Committee (Committee) to fill two vacancies. This Committee advises the Coast Guard on matters related to national recreational boating safety.

DATES: Your completed applications should reach the U.S. Coast Guard on or before March 3, 2022.

ADDRESSES: Applications should include a cover letter expressing interest in an appointment to the National Boating Safety Advisory Committee and a resume detailing the applicant's boating experience with a brief biography. Incomplete applications will not be considered.

Applications should be submitted via email with subject line “Application for NBSAC” to NBSAC@uscg.mil.

FOR FURTHER INFORMATION CONTACT: Mr. Jeff Decker, Alternate Designated Federal Officer of the National Boating Safety Advisory Committee; telephone 202-372-1507 or email at NBSAC@uscg.mil.

SUPPLEMENTARY INFORMATION: The National Boating Safety Advisory Committee is a Federal advisory committee. The Committee operates under the provisions of the Federal Advisory Committee Act, (5 U.S.C. appendix) in addition to the administrative provisions in section 601 of the Frank LoBiondo Coast Guard Authorization Act of 2018 (specifically, 46 U.S.C. 15109).

The Committee was established on December 4, 2018, by section 601 of the Frank LoBiondo Coast Guard Authorization Act of 2018 (Pub. L. No 115-282, 132 Stat 4192). That authority is codified, at 46 U.S.C. 15105. The Committee is required to meet at least once a year in accordance with 46 U.S.C. 15109(a). We expect the Committee will hold meetings at least twice a year. The meetings are held virtually or at a location selected by the U.S. Coast Guard.

All members serve at their own expense and receive no salary or other compensation from the Federal Government. Members may be reimbursed for travel and per diem in accordance with Federal Travel Regulations.

Under provisions in 46 U.S.C. 15109(f)(6), if you are appointed as a member of the Committee, your membership term will expire on December 31st of the third full year after the effective date of your appointment. The Secretary may require an individual to have passed an appropriate security background examination before appointment to the Committee, 46 U.S.C. 15109(f)(4).

In this solicitation for Committee members, we will consider applications for two (2) positions:

• One member to represent State officials responsible for State boating safety programs.

• One member to represent recreational vessel and associated equipment manufacturers.

Each member of the Committee must have particular expertise, knowledge, and experience on matters related to national boating safety.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, email your cover letter and resume along with the brief biography to NBSAC@uscg.mil via the transmittal method provided in the ADDRESSES section by the deadline in the DATES section of this notice.

Dated: January 26, 2022.
Wayne R. Arguin, Jr.,
Captain, U.S. Coast Guard, Director of Inspections and Compliance.

[FR Doc. 2022-02016 Filed 1-31-22; 8:45 am]

BILLING CODE 9110-04-P